DEPARTMENT OF TRANSPORTATION

Federal Aviation Administration

14 CFR Part 39

Cessna Aircraft Company Models 401, 401A, 401B, 402, 402A, 402B, 402C, 411, and 411A, and 414A Airplanes; Notice of Public Meeting

AGENCY: Federal Aviation Administration, DOT.

ACTION: Notice of public meeting.

SUMMARY: This document announces a public meeting of interest to owners and operators of Cessna Aircraft Company (Cessna) Models 401, 401A, 401B, 402, 402A, 402B, 402C, 411, and 411A, and 414A airplanes. The purpose of the meeting is to discuss technical issues and proposed corrective actions related to the potential of wing spar cap failure due to undetected fatigue cracks.

DATES: The Federal Aviation Administration (FAA) will hold the public meeting on August 18, 2004, starting at 8:30 a.m. at the Kansas City Marriott Downtown, in Kansas City, Missouri. Registration will begin at 8 a.m. on the day of the meeting.

ADDRESSES: We will hold the public meeting at the Kansas City Marriott Downtown, 200 NW 12th Street, Kansas City, Missouri 64105.

If you are unable to attend, you may mail comments and information to FAA, Small Airplane Directorate, Continued Operational Safety Branch, ACE-113, 901 Locust, Room 301, Kansas City, Missouri 64106. You may also send comments electronically to the following addresses: marvin.nuss@faa.gov or larry.werth@faa.gov. If you send comments electronically as attached electronic files, the files must be formatted in Microsoft Word 97 for Windows or ASCII text.

We will give the same consideration to any comments or information mailed to us as those presented at the public meeting.

FOR FURTHER INFORMATION CONTACT: • For Requests to Present a Statement at the Meeting: Contact Marv Nuss, Aerospace Engineer, FAA, Small Airplane Directorate, 901 Locust, Room 301, Kansas City, Missouri 64106; telephone: (816) 329-4117; facsimile: (816) 329-4090; e-mail: marvin.nuss@faa.gov.

• For Questions Regarding the Previously Proposed ADs: Contact Paul Nguyen, Aerospace Engineer, FAA, Wichita Aircraft Certification Office, 1801 Airport Road, Mid-Continent Airport, Wichita, Kansas 67209; telephone: (316) 946-4125; facsimile: (316) 946-4107.

• For Requests for Special Accommodations: Contact Larry Werth, AD Coordinator, FAA, Small Airplane Directorate, 901 Locust, Room 301, Kansas City, Missouri 64106; telephone: (816) 329-4147; facsimile: (816) 329-4149.

SUPPLEMENTARY INFORMATION:

Participation at the Public Meeting

What must I do to make a presentation at the meeting? If you would like to make a presentation at the meeting, make your request to FAA no later than 10 days prior to the meeting. Submit these requests to Mr. Marv Nuss as listed in the FOR FURTHER INFORMATION CONTACT section of this document. You should include a written summary of your presentation with a time estimate of your presentation.

Will FAA prepare an agenda? We will prepare an agenda for this meeting. To accommodate all presenters, we may allocate less time for your presentation than you requested. If you request to present after the deadline, we will schedule your presentation as time is available. However, your name may not appear on the agenda.

What if I need special equipment? You should include in your presentation request any special audiovisual equipment that you need. We will accommodate reasonable requests.

Background

Why is the FAA conducting this meeting? There have been concerns about fatigue cracking on Cessna 400 series airplanes since the 1970s. In 1979, the FAA issued ADs to require periodic inspection of Cessna 400 series wing spars. The FAA evaluated fatigue and crack growth analysis recently performed by the Cessna Aircraft Company and determined that the wing spars of the Cessna 400 series require modification and periodic inspection to prevent in-flight wing separation. The service history includes a 1999 accident caused by a wing failure and six other incidents where cracks were found before the wing failed. To address this airworthiness concern, the FAA issued two NPRMs in May 2003 (that would supersede two existing ADs on the affected aircraft) to propose incorporating a spar strap modification on each wing spar.

Many owners of the affected aircraft were vehemently opposed to the action due to the high cost. To ensure that the public had the opportunity to fully communicate their concerns, the FAA:

• Extended the comment period an additional 30 days beyond the initial 60-day comment period;

• Reopened the comment period for another 60 days; and

• Held a public meeting on March 3 and 4, 2004, in Herndon, Virginia.

After analyzing all information related to this subject, the FAA decided not to issue the new ADs as proposed. The FAA has determined that the best way to address the unsafe condition is for the FAA, the public, and industry to develop alternative solutions for addressing the unsafe condition. Accordingly, the FAA withdrew the NPRMs on May 18, 2004 (69 FR 29672, May 25, 2004) and is holding this second meeting to continue this effort.

Public Meeting Procedures

What procedures should I follow for this public meeting? If you plan to attend the public meeting, please be aware of the following:

• There is no admission fee or other charge to attend or participate in this meeting. You are responsible for your own transportation and accommodations for the meeting. The meeting is open to all who requested in advance to present or who register on the day of the meeting. This is subject to availability of space in the meeting room.

• FAA representatives will conduct the meeting. We will have a panel of technical experts and managers to discuss information on the subject.

• The public meeting is intended as a forum to seek additional data and supporting methodologies from industry, the general public, and operators. You must limit your presentation and submittals to data of this issue.

• The meeting will allow you to present additional information not currently available to FAA and an opportunity for FAA to explain to you the methodology and technical assumptions that support our conclusions.

• FAA experts, industry, and public participants are expected to hold a full discussion of all technical material presented at the meeting. If you present conclusions on this subject, you must submit data that supports your conclusions.

• We will try and accommodate all speakers. In order to do this, we may need to limit the time for presenters.

• We can make sign and oral interpretation available at the meeting, as well as an assistive listening device. If you need this assistance, make your request to FAA at least 10 days prior to the public meeting.

• A court reporter will record the discussions of the meeting. If you would like to purchase a copy of the transcript, you must contact the court reporter directly. We will provide further information at the meeting.

• We will review and consider all material presented. Position papers or materials may be accepted at the discretion of the presiding officer. The FAA requests that you provide 10 copies of all materials for distribution to the panel members. You have the choice on whether you want to present copies of the material to the audience.

• The meetings are designed to solicit public views and information. Therefore, we will conduct the meeting in an informal and nonadversarial manner.

Issued in Kansas City, Missouri, on July 13, 2004.
Scott L. Sedgwick,
Acting Manager, Small Airplane Directorate, Aircraft Certification Service.

[FR Doc. 04-16349 Filed 7-16-04; 8:45 am]

BILLING CODE 4910-13-P